DEPARTMENT OF ENERGY

Federal Energy Regulatory Commission

[Docket No. EG04-78-000, et al.]

Boeve Windfarm LLC, et al.; Electric Rate and Corporate Filings

June 30, 2004.

The following filings have been made with the Commission. The filings are listed in ascending order within each docket classification.

1. Boeve Windfarm LLC

[Docket No. EG04-78-000]

Take notice that on June 28, 2004, Boeve Windfarm, LLC (Boeve) filed with the Federal Energy Regulatory Commission an application for determination of exempt wholesale generator status pursuant to part 365 of the Commission's regulations.

Boeve states that it owns and operates a 1.9 MW wind energy conversion facility in Woodstock, Minnesota, which sells its entire output to Northern States Power Company exclusively at wholesale pursuant to a long-term power purchase agreement. Boeve further states that the facility interconnects with NSP on an NSP 34.5 kV subtransmission line in Minnesota and the Boeve facility includes only those interconnection facilities needed to deliver energy from the facility to NSP for its wholesale sale and purchase.

Comment Date: July 19, 2004.

2. Fey Windfarm, LLC

[Docket No. EG04-79-000]

Take notice that on June 28, 2004, Fey Windfarm, LLC (Fey) filed with the Federal Energy Regulatory Commission an application for determination of exempt wholesale generator status pursuant to part 365 of the Commission's regulations.

Fey states that it owns and operates a 1.9 MW wind energy conversion facility in Woodstock, Minnesota, which sells its entire output to Northern States Power Company exclusively at wholesale pursuant to a long-term power purchase agreement. Fey further states that the facility interconnects with NSP on an NSP 34.5 kV subtransmission line in Minnesota and the Fey facility includes only those interconnection facilities needed to deliver energy from the facility to NSP for its wholesale sale and purchase.

Comment Date: July 19, 2004.

3. Windcurrent Farms, LLC

[Docket No. EG04-80-000]

Take notice that on June 28, 2004, Windcurrent Farms, LLC (Windcurrent) filed with the Federal Energy Regulatory Commission an application for determination of exempt wholesale generator status pursuant to part 365 of the Commission's regulations.

Windcurrent states that it owns and operates a 1.9 MW wind energy conversion facility in Woodstock, Minnesota, which sells its entire output to Northern States Power Company exclusively at wholesale pursuant to a long-term power purchase agreement. Windcurrent further states that the facility interconnects with NSP on an NSP 34.5 kV subtransmission line in Minnesota and the Windcurrent facility includes only those interconnection facilities needed to deliver energy from the facility to NSP for its wholesale sale and purchase.

Comment Date: July 19, 2004.

4. Tofteland Windfarm, LLC

[Docket No. EG04-81-000]

Take notice that on June 28, 2004, Tofteland Windfarm, LLC (Tofteland) filed with the Federal Energy Regulatory Commission an application for determination of exempt wholesale generator status pursuant to part 365 of the Commission's regulations.

Tofteland states that it owns and operates a 1.9 MW wind energy conversion facility in Woodstock, Minnesota, which sells its entire output to Northern States Power Company exclusively at wholesale pursuant to a long-term power purchase agreement. Tofteland further states that the facility interconnects with NSP on an NSP 69 kV transmission line in Minnesota and the Tofteland facility includes only those interconnection facilities needed to deliver energy from the facility to NSP for its wholesale sale and purchase.

Comment Date: July 19, 2004.

5. CG Windfarm, LLC

[Docket No. EG04-82-000]

Take notice that on June 28, 2004, CG Windfarm, LLC (CG) filed with the Federal Energy Regulatory Commission an application for determination of exempt wholesale generator status pursuant to part 365 of the Commission's regulations.

CG states that it owns and operates a 1.9 MW wind energy conversion facility in Woodstock, Minnesota, which sells its entire output to Northern States Power Company exclusively at wholesale pursuant to a long-term power purchase agreement. CG further states that the facility interconnects with NSP on an NSP 69 kV transmission line in Minnesota and the CG facility includes only those interconnection facilities needed to deliver energy from the facility to NSP for its wholesale sale and purchase.

Comment Date: July 19, 2004.

6. The Governors of: Connecticut, Maine, Massachusetts, New Hampshire, Rhode Island, Vermont

[Docket No. EL04-112-000]

Take notice that on June 25, 2004, the Governors of Connecticut, Maine, Massachusetts, New Hampshire, Rhode Island and Vermont (collective, the Petitioners) filed a Joint Petition for Declaratory Order to Form a New England Regional State Committee. The Petitioners informed the Commission of their collective intention to form a non-profit corporation, the New England States Committee on Electricity (NESCOE), that will serve as the New England region's regional state committee. Petitioners state that NESCO will focus on developing and making policy recommendations related to resource adequacy and system planning, and will affirmatively investigate and report to the New England Governors on policy questions concerning the possibility of a regional authority for siting of interstate transmission facilities.

The Petitioners request the Commission's declaratory order to require RTO New England (RTO-NE) and the New England participating transmission owners (TOs) provide NESCOE, absent exigent circumstances, with written notice of any proposed additions or changes to market rules or tariffs within a reasonable time before filing the proposed additions or changes to market rules or tariffs within a reasonable time before filing the proposal; require that RTO-NE and the TOs give NESCOE a reasonable opportunity to make determinations regarding any proposed additions or changes to market rules and tariffs that affect matters within the scope of NESCOE's responsibility; require RTO-NE and the TOs to file with the Commission any determinations made by NESCOE, along with an explanation of how the determination was incorporated into RTO-NE's or the TOs' proposal or why it was not followed; require that RTO-NE or the TOs file NESCOE's determinations with the Commission pursuant to their respective authorities under Section 205 of the Federal Power Act; require NESCOE to be funded by a regional tariff administered by the RTO-NE and ultimately collected from all New England retail electricity customers; and, require that RTO-NE, the New England Power Pool, and the TOs file amendments to their respective jurisdictional tariffs and agreements to reflect the Commission's intention in the declaratory order resulting from this Petition.

Comment Date: July 16, 2004.

7. Tenaska Virginia Partners, L.P.

[Docket No. ER04-680-002]

Take notice that on June 25, 2004, Tenaska Virginia Partners, L.P., (Tenaska Virginia) submitted a compliance filing modifying its rate schedule under which Tenaska Virginia provides Reactive Support and Voltage Control from Generation Sources Service pursuant to the Commission's order issued May 28, 2004 in Docket No. ER04-680-000, Tenaska Virginia Partners, 107 FERC ¶ 61,207 (2004). Tenaska Virginia requests an effective date of May 1, 2004.

Comment Date: July 16, 2004.

8. Pacific Gas and Electric Company

[Docket No. ER03-708-001]

Take notice that on June 25, 2004, Pacific Gas and Electric Company (PG&E) tendered for filing a refund report in connection with the Commission's order issued April 16, 2004 in Docket No. ER03-708-000.

PG&E states that copies of PG&E's filing have been served upon each person designated on the official service list in this proceeding.

Comment Date: July 16, 2004.

9. Entergy Services, Inc.

[Docket No. ER04-795-001]

Take notice that on June 25, 2004, Entergy Services, Inc. (Entergy Services), on behalf of Entergy Arkansas, Inc. (Entergy Arkansas), tendered for filing an amendment to Entergy Services' April 29, 2004, filing of an unexecuted amended Interconnection and Operating Agreement between Entergy Arkansas and Plum Point Energy Associates, LLC (Plum Point) in response to the Commission's deficiency letter issued June 4, 2004.

Comment Date: July 16, 2004.

10. PJM Interconnection, L.L.C.

[Docket No. ER04-955-000]

Take notice that on June 25, 2004, PJM Interconnection, L.L.C. (PJM), submitted for filing an executed interconnection service agreement among PJM, Calpine Newark, LLC, and Public Service Electric & Gas Company (ISA). PJM requests an effective date of May 27, 2004.

PJM states that copies of this filing were served upon the parties to the agreement and the state regulatory commissions within the PJM region.

Comment Date: July 16, 2004.

11. PJM Interconnection, L.L.C.

[Docket No. ER04-956-000]

Take notice that on June 25, 2004, PJM Interconnection, L.L.C. (PJM), submitted for filing an executed interconnection service agreement among PJM, Calpine Parlin, LLC, and Jersey Central Power & Light Company (ISA). PJM requests a waiver of the Commission's 60-day notice requirement to permit a May 27, 2004 effective date for the ISA.

PJM states that copies of this filing were served upon the parties to the agreement and the state regulatory commissions within the PJM region.

Comment Date: July 16, 2004.

12. TXU Electric Delivery Company

[Docket No. ER04-957-000]

Take notice that on June 25, 2004, TXU Electric Delivery Company (TXU Electric Delivery), tendered for filing a Notice of Succession pursuant to section 35.16 of the Commission's Regulations, 18 CFR 35.16. TXU Electric Delivery states that as a result of a name change, TXU Electric Delivery is succeeding to the tariffs and related service agreements of Oncor Electric Delivery Company, effective May 31, 2004.

TXU Electric Delivery states that copies of this filing have been served upon each customer taking service under tariffs subject to the Notice of Succession, and the Public Utility Commission of Texas.

Comment Date: July 16, 2004.

13. New York Independent System Operator, Inc.

[Docket No. ER04-958-000]

Take notice that on June 25, 2004, the New York Independent System Operator, Inc. (NYISO) on behalf of the Long Island Power Authority (LIPA), filed proposed revisions to the NYISO's Open Access Transmission Tariff (OATT). NYISO states that the proposed filing would revise LIPA's wholesale transmission service charge. The NYISO has requested an effective on August 1, 2004.

NYISO states that a copy of this filing was served upon all signatories of the NYISO OATT.

Comment Date: July 16, 2004.

14. Reliant Energy Etiwanda, Inc.

[Docket No. ER04-959-000]

Take notice that on June 25, 2004, Reliant Energy Etiwanda. Inc. (Etiwanda) tendered for filing its Rate Schedule FERC No. 2, Must-Run Service Agreement (RMR Agreement) and a related letter agreement between Etiwanda and the California Independent System Operator Corporation (CAISO). Etiwanda requests waiver of the notice requirement of section 35.3 of the Commission's regulations, 18 CFR 35.3 (2003), in order to allow the Must-Run Service Agreement and the Letter Agreement to be effective as of July 1, 2004.

Etiwanda states that this filing has been served upon the CAISO, the California Public Utilities Commission, the California Electricity Oversight Board and Southern California Edison Company.

Comment Date: July 16, 2004.

15. Mid-Continent Area Power Pool

[Docket No. ER04-960-000]

Take notice that on June 25, 2004, Mid-Continent Area Power Pool (MAPP) tendered for filing amendments to Schedule F, FERC Electric Tariff, First Revised Volume No. 1 (Schedule F), pursuant to section 205 of the Federal Power Act.

MAPP states that a copy of this filing has been served on all MAPP members, customers under Schedule F, and the state commissions in the MAPP region. MAPP also states that the filing has been posted on the MAPP Web site at www.mapp.org.

Comment Date: July 16, 2005.

16. Midwest Independent Transmission

[Docket No. ER04-961-000]

Take notice that on June 25, 2004, Midwest Independent Transmission System Operator, Inc. (Midwest ISO) submitted for filing a proposed Schedule 21—Reactive Supply and Voltage Control from Independent Generation Resources Service, which is intended to supplement Schedule 2 of the Midwest ISO Open Access Transmission Tariff concerning the provision of reactive supply and voltage control from generation resource service. Midwest ISO requests an effective date of October 1, 2004.

The Midwest ISO has also requested waiver of the service requirements set forth in 18 CFR 385.2010. Midwest ISO states that it has electronically served a copy of this filing, with attachments, upon all Midwest ISO Members, Member representatives of Transmission Owners and Non-Transmission Owners, the Midwest ISO Advisory Committee participants, as well as all state commissions within the region. In addition, Midwest ISO states that the filing has been electronically posted on the Midwest ISO's Web site at www.midwestiso.org under the heading “Filings to FERC” for other interested parties in this matter. Midwest ISO indicates that it will provide hard copies to any interested parties upon request.

Comment Date: July 16, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1501 Filed 7-8-04; 8:45 am]

BILLING CODE 6717-01-P